DEPARTMENT OF ENERGY

Federal Energy Regulatory Commission

Combined Notice of Filings #1

Take notice that the Commission received the following exempt wholesale generator filings:

Docket Numbers: EG16-105-000.

Applicants: Portal Ridge Solar B, LLC.

Description: Self-Certification of Exempt Wholesale Generator Status of Portal Ridge Solar B, LLC.

Filed Date: 5/20/16.

Accession Number: 20160520-5121.

Comments Due: 5 p.m. ET 6/10/16.

Take notice that the Commission received the following electric rate filings:

Docket Numbers: ER10-1819-015; ER10-1820-018; ER10-1818-013; ER10-1817-014.

Applicants: Northern States Power Company, a Minnesota corporation, Northern States Power Company, a Wisconsin corporation, Public Service Company of Colorado, Southwestern Public Service Company.

Description: Notice of Change in Status of Northern States Power Company, a Minnesota corporation, et al.

Filed Date: 5/19/16.

Accession Number: 20160519-5213.

Comments Due: 5 p.m. ET 6/9/16.

Docket Numbers: ER14-1485-007.

Applicants: PJM Interconnection, L.L.C.

Description: Compliance filing: Compliance filing per 4/22/2016 order in Docket Nos. EL15-18, ER14-1485 et al to be effective 12/31/9998.

Filed Date: 5/20/16.

Accession Number: 20160520-5070.

Comments Due: 5 p.m. ET 6/10/16.

Docket Numbers: ER16-829-001.

Applicants: Southwest Power Pool, Inc.

Description: Limited Comment of Kansas City Power & Light Company and Nebraska Public Power District on SPP Response to Deficiency Letter.

Filed Date: 5/19/16.

Accession Number: 20160519-5228.

Comments Due: 5 p.m. ET 6/9/16.

Docket Numbers: ER16-1747-000.

Applicants: PJM Interconnection, L.L.C.

Description: § 205(d) Rate Filing: Service Agreement No. 4460, Queue Position AA2-180 to be effective 4/20/2016.

Filed Date: 5/20/16.

Accession Number: 20160520-5067.

Comments Due: 5 p.m. ET 6/10/16.

Docket Numbers: ER16-1748-000.

Applicants: Southern California Edison Company.

Description: § 205(d) Rate Filing: 2016 Revised Added Facilities Rate under TO—Filing No. 5 to be effective 1/1/2016.

Filed Date: 5/20/16.

Accession Number: 20160520-5077.

Comments Due: 5 p.m. ET 6/10/16.

Docket Numbers: ER16-1749-000.

Applicants: Southern California Edison Company.

Description: § 205(d) Rate Filing: Amended LGIA Revised Added Facilities Rate Mojave Solar LLC to be effective 1/1/2016.

Filed Date: 5/20/16.

Accession Number: 20160520-5078

Comments Due: 5 p.m. ET 6/10/16.

Docket Numbers: ER16-1750-000.

Applicants: Eastern Shore Solar LLC.

Description: Baseline eTariff Filing: Baseline Filing—Market-Based Rate Tariff to be effective 7/19/2016.

Filed Date: 5/20/16.

Accession Number: 20160520-5114.

Comments Due: 5 p.m. ET 6/10/16.

Docket Numbers: ER16-1751-000.

Applicants: New York Independent System Operator, Inc.

Description: § 205(d) Rate Filing: NYISO 205 filing: ICAP Demand Curve Periodic Review Enhancements to be effective 7/19/2016.

Filed Date: 5/20/16.

Accession Number: 20160520-5119.

Comments Due: 5 p.m. ET 6/10/16.

Docket Numbers: ER16-1752-000.

Applicants: Americhoice Energy OH, LLC.

Description: Baseline eTariff Filing: Americhoice Energy OH, LLC Market Based Rate Tariff to be effective 5/20/2016.

Filed Date: 5/20/16.

Accession Number: 20160520-5131.

Comments Due: 5 p.m. ET 6/10/16.

Docket Numbers: ER16-1753-000.

Applicants: Americhoice Energy IL, LLC.

Description: Baseline eTariff Filing: Americhoice Energy IL, LLC Market Based Rate Tariff to be effective 5/20/2016.

Filed Date: 5/20/16.

Accession Number: 20160520-5134.

Comments Due: 5 p.m. ET 6/10/16.

Docket Numbers: ER16-1754-000.

Applicants: Americhoice Energy PA, LLC.

Description: Baseline eTariff Filing: Americhoice Energy, PA LLC, Market Based Rate Tariff to be effective 5/20/2016.

Filed Date: 5/20/16.

Accession Number: 20160520-5159.

Comments Due: 5 p.m. ET 6/10/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 20, 2016.
Nathaniel J. Davis, Sr.,
Deputy Secretary.

[FR Doc. 2016-12424 Filed 5-25-16; 8:45 am]

BILLING CODE 6717-01-P